DEPARTMENT OF JUSTICE

Notice of Extension of Comment Period for Proposed Settlement Agreement Under the Federal Debt Collection Procedure Act, the Comprehensive Environmental Response, Compensation and Liability Act, the Resource Conservation and Recovery Act, and Other Statutes

Notice is hereby given of an extension of the period for public comment with respect to the Columbus, Mississippi site under the proposed settlement agreement (“Settlement Agreement”) entered into by Anadarko Petroleum Corp. and seven of its affiliates (the “Defendants”), the United States, and the Anadarko Litigation Trust in the matter entitled Tronox Inc., et al., and United States v. Anadarko Petroleum Corp., et al., Bankruptcy Adversary Proceeding No. 09-1198. This matter is part of the bankruptcy case of Tronox Inc. and its affiliates (collectively “Tronox”), In re Tronox Inc., et al., No. 09-10156, in the same court. The Settlement Agreement was lodged with the United States Bankruptcy Court for the Southern District of New York on April 3, 2014, in Tronox Inc., et al., and United States v. Anadarko Petroleum Corp., et al., Bankruptcy Adversary Proceeding No. 09-1198.

The Settlement Agreement provides for $5.15 billion dollars to be paid to the Anadarko Litigation Trust. These proceeds will then be distributed to the United States, certain environmental response trusts, a tort claims trust, and certain state and tribal governments as provided by the Plan of Reorganization, Litigation Trust Agreement, Environmental Settlement Agreement, and other documents (collectively, the “Bankruptcy Documents”) previously approved by the bankruptcy court in Tronox's bankruptcy.

The Settlement Agreement resolves fraudulent conveyance claims brought by the United States and the Anadarko Litigation Trust against Defendants. As part of the Settlement Agreements, Defendants will receive covenants not to sue from the United States under various statutes, included the Comprehensive Environmental Response Compensation, and Liability Act and Resource Conservation and Recovery Act, and for certain common law claims, all as and to the extent specified in the Settlement Agreement. Pursuant to this Settlement Agreement and the Bankruptcy Documents, portions of the Defendants' payment under the Settlement Agreement will either fund clean-up or provide compensation for past or future environmental costs at numerous sites around the county.

Notice of lodging of the Settlement Agreement was published in the Federal Register on April 14, 2014. See 79 FR 20910. The public comment period for the Settlement Agreement is scheduled to close on May 14, 2014. However, in response to requests for an extension of the public comment period relating to the Columbus, Mississippi site, the United States has elected to extend the comment period with respect to the Columbus, Mississippi site and to accept public comments received no later than May 21, 2014.

Comments should be addressed to the Assistant Attorney General, Environment and Natural Resources Division, and should refer to Tronox and United States v. Anadarko Petroleum Corp., D.J. Ref. No. 90-11-3-09688. All comments must be received no later than May 21, 2014. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Settlement Agreement may be examined and downloaded at a Justice Department Web site: http://www.usdoj.gov/enrd/Consent_Decrees.html. We will provide a paper copy of the Settlement Agreement upon written request and payment of reproduction costs. Please mail your request and payment to: Consent Decree Library, U.S. DOJ-ENRD, P.O. Box 7611, Washington, DC 20044-7611.

Please enclose a check or money order for $32.00 (25 cents per page reproduction cost) payable to the United States Treasury. For a paper copy without exhibits or notice of lodging, the cost is $14.75.

Maureen M. Katz,
Assistant Section Chief, Environmental Enforcement Section, Environment and Natural Resources Division.

[FR Doc. 2014-11063 Filed 5-13-14; 8:45 am]

BILLING CODE 4410-15-P